NATIONAL SCIENCE FOUNDATION

National Science Board; Sunshine Act Meetings

The National Science Board, pursuant to NSF regulations (45 CFR Part 614), the National Science Foundation Act, as amended (42 U.S.C. 1862n-5), and the Government in the Sunshine Act (5 U.S.C. 552b), hereby gives notice in regard to the scheduling of a teleconference meeting of the Committee on Strategy and Budget for the transaction of National Science Board business.

AGENCY HOLDING MEETING: National Science Board.

DATE AND TIME: Tuesday, August 21, 2012 from 5:00-6:00 p.m.

SUBJECT MATTER: Chairman's remarks, consideration and approval of the National Science Foundation FY 2014 budget.

STATUS: Closed.

PLACE: This meeting will be held by teleconference originating at the National Science Board Office, National Science Foundation, 4201Wilson Blvd., Arlington, VA 22230.

UPDATES: Please refer to the National Science Board Web site www.nsf.gov/nsb for additional information. Meeting information and schedule updates (time, place, subject matter or status of meeting) may be found at http://www.nsf.gov/nsb/notices/.

AGENCY CONTACT: Jacqueline Meszaros, jmeszaro@nsf.gov, (703) 292-7000.

Ann Bushmiller,
NSB Senior Legal Counsel.

[FR Doc. 2012-20197 Filed 8-14-12; 11:15 am]

BILLING CODE 7555-01-P